DEPARTMENT OF HOUSING AND URBAN DEVELOPMENT

[Docket No. FR-5545-D-02]

Order of Succession for the Office of Public and Indian Housing

AGENCY: Office of the Assistant Secretary for Public and Indian Housing, HUD.

ACTION: Notice of order of succession.

SUMMARY: In this notice, the Assistant Secretary for Public and Indian Housing designates the order of succession for the Office of Public and Indian Housing (PIH). This order of succession revokes and supersedes all prior orders of succession for PIH, including that published on October 18, 2006 (71 FR 61500).

DATES: Effective Date: July 15, 2011.

FOR FURTHER INFORMATION CONTACT: Linda Bronsdon, AICP, Office of Policy, Program and Legislative Initiatives, Office of Public and Indian Housing, Department of Housing and Urban Development, 490 L'Enfant Plaza, Washington, DC 20024, e-mail address Linda.K.Bronsdon@hud.gov, telephone number 202-402-3494. (This is not a toll-free number.) This number may be accessed through TTY by calling the toll-free Federal Relay Service at telephone number 1-800-877-8339.

SUPPLEMENTARY INFORMATION: The Assistant Secretary for PIH is issuing this order of succession of officials to perform the duties and functions of PIH when, by reason of absence, disability, or vacancy in office, the Assistant Secretary is not available to exercise the powers or perform the duties of the office. This order of succession is subject to the provisions of the Federal Vacancy Reform Act of 1998 (5 U.S.C. 3345-3349d). This publication revokes and supersedes all prior orders of succession for PIH, including that published on October 18, 2006 (71 FR 61500).

Accordingly, the Assistant Secretary for PIH designates the following Order of Succession:

Section A. Order of Succession

Subject to the provisions of the Federal Vacancies Reform Act of 1998, during any period when, by reason of absence, disability, or vacancy in office, the Assistant Secretary is not available to exercise the powers or perform the duties of the Assistant Secretary of PIH, the following officials within PIH are hereby designated to exercise the powers and perform the duties of the Assistant Secretary for PIH, including the authority to waive regulations:

(1) General Deputy Assistant Secretary for Public and Indian Housing;

(2) Deputy Assistant Secretary for Public Housing and Voucher Programs;

(3) Deputy Assistant Secretary for Public Housing Investments;

(4) Deputy Assistant Secretary for Field Operations;

(5) Deputy Assistant Secretary for the Real Estate Assessment Center;

(6) Deputy Assistant Secretary for Office of Native American Programs;

(7) Deputy Assistant Secretary for Policy, Program and Legislative Initiatives;

(8) Region 7/8 Regional Public Housing; and

(9) Region 6 Regional Public Housing.

These officials shall perform the functions and duties of the office in the order specified herein, and no official shall serve unless all the other officials, whose position titles precede his/hers in this order, are unable to act by reason of absence, disability, or vacancy in office.

Section B. Authority Superseded

This order of succession supersedes all prior order of succession for the Assistant Secretary for Public and Indian Housing, including that published on October 18, 2006 (71 FR 61500).

Authority: Section 7(d), Department of Housing and Urban Development Act, 42 U.S.C. 3535(d).

Dated: July 15, 2011.
Sandra B. Henriquez,
Assistant Secretary for Public and Indian Housing.

[FR Doc. 2011-19724 Filed 8-3-11; 8:45 am]

BILLING CODE 4210-67-P